DEPARTMENT OF COMMERCE

Foreign-Trade Zones Board

[B-30-2018]

Foreign-Trade Zone (FTZ) 7—Mayaguez, Puerto Rico; Notification of Proposed Production Activity; Lilly del Caribe, Inc.; (Pharmaceutical Products); Carolina, Puerto Rico

Lilly del Caribe, Inc. (Lilly del Caribe) submitted a notification of proposed production activity to the FTZ Board for its facility in Carolina, Puerto Rico. The notification conforming to the requirements of the regulations of the FTZ Board (15 CFR 400.22) was received on May 14, 2018.

Lilly del Caribe already has authority to produce the active ingredients humalog, duloxetine, abemaciclib, and barcitinib within Subzone 7K. The current request would add a finished product and a foreign status material/component to the scope of authority. Pursuant to 15 CFR 400.14(b), additional FTZ authority would be limited to the specific foreign-status material/component and the specific finished product described in the submitted notification (as described below) and subsequently authorized by the FTZ Board.

Production under FTZ procedures could exempt Lilly del Caribe from customs duty payments on the foreign-status materials/components used in export production. On its domestic sales, for the foreign-status material/component noted below and in the existing scope of authority, the company would be able to choose the duty rates during customs entry procedures that apply to: Finished lasmiditan tablets (duty-free). Lilly del Caribe would be able to avoid duty on foreign-status components which become scrap/waste. Customs duties also could possibly be deferred or reduced on foreign-status production equipment.

The material/component sourced from abroad is: Lasmiditan hemisuccinate active ingredient (duty rate 6.5%).

Public comment is invited from interested parties. Submissions shall be addressed to the Board's Executive Secretary at the address below. The closing period for their receipt is June 27, 2018.

A copy of the notification will be available for public inspection at the Office of the Executive Secretary, Foreign-Trade Zones Board, Room 21013, U.S. Department of Commerce, 1401 Constitution Avenue NW, Washington, DC 20230-0002, and in the “Reading Room” section of the Board's website, which is accessible via www.trade.gov/ftz.

For further information, contact Christopher Wedderburn at chris.wedderburn@trade.gov or (202) 482-1963.

Dated: May 15, 2018.
Andrew McGilvray,
Executive Secretary.

[FR Doc. 2018-10646 Filed 5-17-18; 8:45 am]

BILLING CODE 3510-DS-P